COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before February 13, 2013.

ADDRESSES: Send comments regarding the burden estimated or any other aspect of the information collection, including suggestions for reducing the burden, to the addresses below. Please refer to OMB Control No. 3038-0091 in any correspondence.

Martin B. White, Office of the General Counsel, Commodity Futures Trading Commission, 1155 21st Street NW., Washington, DC 20581; and

Office of Information and Regulatory Affairs, Office of Management and Budget, Attention: Desk Officer for CFTC, 725 17th Street, Washington, DC 20503.

Comments may also be submitted by any of the following methods:

The agency's Web site, at http://comments.cftc.gov. Follow the instructions for submitting comments through the Web site.

Mail: Sauntia Warfield, Assistant Secretary of the Commission, Commodity Futures Trading Commission, Three Lafayette Centre, 1155 21st Street NW., Washington, DC 20581.

Hand Delivery/Courier: Same as mail above.

Federal eRulemaking Portal: http://www.regulations.gov. Follow the instructions for submitting comments.

Please submit your comments using only one method and identity that it is for the renewal of 3038-0091.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ See 17 CFR 145.9.

FOR FURTHER INFORMATION OR A COPY CONTACT: Martin B. White, Office of the General Counsel, Commodity Futures Trading Commission, 1155 21st Street NW., Washington, DC 20581, (202) 418-5303; FAX: (202) 418-5527; email: mwhite@cftc.gov and refer to OMB Control No. 3038-0091.

SUPPLEMENTARY INFORMATION: Title: Disclosure and Retention of Certain Information Related to Cleared Swaps Customer Collateral (OMB Control No. 3038-0091). This is a request for extension of a currently approved information collection.

Abstract: Part 22 of the Commission's regulations under the Commodity Exchange Act (Act) establish rules for the protection of customer collateral held by futures commission merchants and derivatives clearing organizations to serve as margin in cleared swaps transactions. As part of this regulatory scheme, sections 22.2(g), 22.5(a), 22.11, 22.12, and 22.16 of these rules impose recordkeeping and third-party disclosure requirements on futures commission merchants and designated clearing organizations. In addition, section 22.13(c)(2) indirectly requires futures commission merchants who post excess collateral with designated clearing organizations to perform certain computations regarding such collateral, although it is not expected to materially affect the total paperwork burden associated with Part 22.

The reporting and recordkeeping requirements of Part 22 constitute the collection of information within the meaning of the Paperwork Reduction Act of 1995. An agency may not conduct or sponsor, and a person is not required to respond to, a collection of information unless it displays a currently valid OMB control number. The Part 22 rules were promulgated earlier this year and the associated collection of information was assigned OMB control number 3038-0091. See Final Rule, 77 FR 6336, 6370-71 (February 7, 2012). The Federal Register notice for the 60-day comment period on this renewal of a collection of information was published on October 2, 2012 (77 FR 60114). That notice included a description of the specific recordkeeping and third-party disclosure required by the relevant rule provisions. No comments were received in response to the 60-day notice.

Burden statement: The Commission estimates the burden of this collection of information as follows:

Recordkeeping Burden
Regulations (17 CFR) | Estimated number of entities | Estimated annual responses per entity | Total annual responses | Estimated number of hours per response | Estimated average cost per response | Total annual burden-hours | Total annual burden-cost
22.2(g) | 100 | 250 | 25,000 | 0.4 | $10 | 10,000 | $250,000
22.5(a) | 100 | 1 | 100 | 5 | 125 | 500 | 12,500

Regulations (17 CFR) | Estimated number of entities | Estimated annualized start-up cost per entity | Estimated annual operating and maintenance cost per entity | Estimated total annualized start-up costs | Estimated total annual operating and maintenance cost per entity
22.12 | 100 | $750-1,500 | $750-1,500 | $75,000-150,000 | $75,000-150,000

Third-Party Disclosure Burden
Regulations (17 CFR) | Estimated number of entities | Annual responses per entity | Total annual responses | Estimated number of hours per response | Estimated average cost per response | Total annual burden-hours | Total annual burden-cost
22.16 | 100 | 1,000 | 100,000 | 0.2 | $5 | 20,000 | $500,000

Regulations (17 CFR) | Estimated number of entities | Estimated annualized start-up cost per entity | Estimated annual operating and maintenance cost per entity | Estimated total annualized start-up costs | Estimated total annual operating and maintenance cost per entity
22.11 | 100 | $750-1,500 | $750-1,500 | $75,000-150,000 | $75,000-150,000

Notes: 1. There is no reporting (in the sense of reporting information to the government as opposed to third-party disclosure to private parties) requirement or burden in connection with information collection under 17 CFR part 22 and Control Number 3038-0091.

2. In the 60-notice for this renewal of a collection of information, the CFTC stated that there were estimated to be no capital costs or operating and maintenance costs associated with this collection. Upon further consideration, the CFTC has determined that the costs associated with rules 22.11 and 22.12 are appropriately classified as start-up costs and operating and maintenance costs as those terms are used with regard to Paperwork Reduction Act burden estimates in the Office of Management and Budget regulatory information system. This reclassification does not alter the substance of the recordkeeping and third-party disclosure requirements in question or the associated total cost set forth in the 60-day notice.

Dated: January 8, 2013.
Stacy D. Yochum,
Counsel to the Executive Director.

[FR Doc. 2013-00521 Filed 1-11-13; 8:45 am]

BILLING CODE 6351-01-P